DEPARTMENT OF DEFENSE

Defense Acquisition Regulations System

48 CFR Parts 202, 212, and 234

Defense Federal Acquisition Regulation Supplement; Acquisition of Commercial Items (2008-D011)

AGENCY: Defense Acquisition Regulations System, Department of Defense (DoD).

ACTION: Interim rule; delay in confirmation as final.

SUMMARY: DoD adopted as final, without change, effective August 20, 2010, the interim rule that amended the Defense Federal Acquisition Regulation Supplement (DFARS) to implement sections 805 and 815 of the National Defense Authorization Act for Fiscal Year 2008. Subsequently, public comments on the interim rule were located, which had not been addressed in finalization of the interim rule. These public comments must be addressed in the formulation of a final rule.

DATES: The interim rule published at 74 FR 34263 on July 15, 2009, as corrected at 74 FR 35825 on July 21, 2009, remains unconfirmed as final until further notice. When appropriate, Defense Acquisition Regulations System will publish announcement of final adoption in the Federal Register.

FOR FURTHER INFORMATION CONTACT: Ms. Cassandra R. Freeman, Defense Acquisition Regulations System, OUSD (AT&L) DPAP/DARS, 3060 Defense Pentagon, Room 3B855, Washington, DC 20301-3060. Telephone 703-602-8383; facsimile 703-602-0350. Please cite DFARS Case 2008-D011.

SUPPLEMENTARY INFORMATION:

A. Background

DoD published an interim rule at 74 FR 34263 on July 15, 2009, to implement sections 805 and 815 of the National Defense Authorization Act (NDAA) for Fiscal Year 2008 (Pub. L. 110-181). A correction to the interim rule was published at 74 FR 35825 on July 21, 2009, to clarify the types of services to which this rule applies, consistent with subsections (c)(1)(A) and (c)(1)(C)(i) of section 805 of the NDAA for Fiscal Year 2008. Section 805 specified when time-and-materials or labor-hour contracts may be used for commercial item acquisitions.

Upon publication of the final rule in the Federal Register at 75 FR 51416 on August 20, 2010, DoD was notified of several public comments that were submitted timely but were not received by DoD or considered in the formulation of the final rule. Therefore, publication of the finalization of the interim rule was premature. At this time, DoD must address the public comments received and consider whether or not there is any impact on the regulations currently in effect. Upon completion of an analysis of the public comments received, DoD will publish another document that will either (1) finalize the interim rule without change, or (2) publish a final rule incorporating the changes resulting from consideration of the public comments. Accordingly, the interim rule published at 74 FR 34263 on July 15, 2009, as corrected at 74 FR 35825 on July 21, 2009, remains in effect until such time as DoD publishes a subsequent document to finalize the interim rule.

This rule was not subject to Office of Management and Budget review under Executive Order 12866, dated September 30, 1993.

List of Subjects in 48 CFR Parts 202, 212, and 234

Government procurement.

Ynette R. Shelkin,
Editor, Defense Acquisition Regulations System.

[FR Doc. 2010-21365 Filed 8-26-10; 8:45 am]

BILLING CODE 5001-08-P